DEPARTMENT OF EDUCATION

34 CFR Chapter III

Final Priority; Technical Assistance on State Data Collection—IDEA Fiscal Data Center

[CFDA Number: 84.373F.]

AGENCY: Office of Special Education and Rehabilitative Services, Department of Education.

ACTION: Final priority.

SUMMARY: The Assistant Secretary for Special Education and Rehabilitative Services announces a priority under the Technical Assistance on State Data Collection program. The Assistant Secretary may use this priority for competitions in fiscal year (FY) 2014 and later years. We take this action to focus attention on an identified national need to provide technical assistance (TA) to improve the capacity of States to meet the data collection requirements of the Individuals with Disabilities Education Act (IDEA). The purpose of this priority is to establish a Fiscal IDEA Data Center (Center) to provide States with TA for meeting their fiscal data collection and reporting obligations under IDEA.

DATES: Effective Date: This priority is effective September 10, 2014.

FOR FURTHER INFORMATION CONTACT: Matthew Schneer, U.S. Department of Education, 400 Maryland Avenue SW., Room 4169, Potomac Center Plaza (PCP), Washington, DC 20202-2600. Telephone: (202) 245-6755 or by email: matthew.schneer@ed.gov.

If you use a telecommunications device for the deaf (TDD) or a text telephone (TTY), call the Federal Relay Service (FRS), toll free, at 1-800-877-8339.

SUPPLEMENTARY INFORMATION: Purpose of Program: The purpose of the Technical Assistance on State Data Collection program is to improve the capacity of States to meet their IDEA data collection and reporting requirements under sections 616 and 618 of IDEA. Funding for the program is authorized under section 611(c)(1) of IDEA, which gives the Secretary the authority to reserve funds appropriated under Part B of IDEA to provide TA activities authorized under section 616(i).¹ Section 616(i) requires the Secretary to review the data collection and analysis capacity of States to ensure that data and information determined necessary for implementation of section 616 are collected, analyzed, and accurately reported. It also requires the Secretary to provide TA, where needed, to improve the capacity of States to meet the data collection requirements under IDEA. The Consolidated Appropriations Act of 2014 gives the Secretary the authority to use FY 2014 funds reserved under section 611(c) to assist the Secretary in administering and carrying out other services and activities to improve data collection, coordination, quality, and use under Parts B and C of IDEA (Pub. L. 113-76).

¹ All references to a statute in this priority are to sections of IDEA unless otherwise noted.

Program Authority: 20 U.S.C. 1411(c), 1416(i), and 1418(c); Consolidated Appropriations Act, 2014 (Pub. L. 113-76).

Applicable Program Regulations: 34 CFR 300.702.

We published a notice of proposed priority for this competition in the Federal Register on May 1, 2014 (79 FR 24661). That notice contained background information and our reasons for proposing this particular priority. Except for minor editorial revisions and one technical revision (noted below), there are no differences between the proposed priority and this final priority. We made a technical revision to the Administrative Requirements part of this priority in paragraph (g)(4)(ii) so that it now requires applicants to budget for a two and one-half day project directors' meeting in Washington, DC, to occur every other year beginning with the meeting scheduled for Summer 2016.

Public Comment: In response to our invitation in the notice of proposed priority, we did not receive any comments related to the proposed priority.

Final Priority

IDEA Fiscal Data Center

The purpose of this priority is to fund a cooperative agreement to establish and operate a Center to achieve, at a minimum, the following expected outcomes: (a) Improve the capacity of State staff to collect and report accurate fiscal data to meet the data collection requirements related to the IDEA Part B local educational agency (LEA) Maintenance of Effort (MOE) Reduction and Coordinated Early Intervening Services (CEIS) [LEA MOE/CEIS] and State Maintenance of Financial Support (State MFS); and (b) increase States' knowledge of the underlying fiscal requirements and the calculations necessary to submit valid and reliable data on LEA MOE/CEIS and State MFS.

Project Activities. To meet the requirements of this priority, the Center, at a minimum, must conduct the following activities:

Knowledge Development Activities

(a) To ensure that States have the capacity to collect and report accurate LEA MOE/CEIS and State MFS fiscal data, survey all 60 IDEA Part B programs in the first year to:

(1) Assess their capacity to collect and report high-quality LEA MOE/CEIS and State MFS fiscal data required under data collections authorized under section 618 and identify the policies and practices that facilitate or hinder the collection of accurate data consistent with IDEA fiscal requirements; and

(2) Analyze and catalogue how States make available State financial support for special education and related services in order to develop templates that increase the capacity of States to collect and report accurate data;

(b) In the first year, analyze the LEA MOE/CEIS data submissions and data notes to determine common data collection and submission errors and to identify States in need of intensive or targeted TA.

Technical Assistance and Dissemination Activities

(a) Provide intensive TA to a minimum of 10 State educational agencies (SEAs) per year, which may include continued TA for some SEAs for longer than one year, to improve States' collection and submission of IDEA fiscal data consistent with the following two annual data collection requirements authorized under section 618 of IDEA: (1) Section V of the Annual State Application under Part B of IDEA (Part B Annual Application); and (2) the LEA MOE/CEIS Data Collection, which was formerly referred to as the Report on Maintenance of Effort Reduction and Coordinated Early Intervening Services (Table 8). Preference should be given to those States with the greatest need, including States with a demonstrated failure to accurately report MFS or LEA MOE/CEIS data, and States requesting TA. When working with States on LEA MOE/CEIS data, the TA should develop the capacity of SEAs to train LEAS to accurately report the required data;

(b) Provide a range of targeted and general TA products and services related to fiscal data to the 60 SEAs with IDEA Part B programs to improve State capacity to collect and report valid and reliable data, including the dissemination of Office of Special Education Programs (OSEP) guidance on IDEA fiscal requirements and the development and dissemination of TA products on IDEA fiscal data collection and reporting requirements, and improve the capacity of SEAs to train LEAs to accurately report the required data; and

(c) Develop templates to assist States in collecting valid and reliable State MFS and LEA MOE/CEIS data so those data can be accurately reported to OSEP. These templates should be designed to accommodate variances in State school financing systems (insofar as possible) and remind users of the applicable required components of the calculation.

Coordination Activities

(a) Communicate and coordinate, on an ongoing basis, with other Department-funded projects, including those providing data-related support to States, such as the National Technical Assistance Center to Improve State Capacity to Accurately Collect and Report IDEA Data; and

(b) Maintain ongoing communication with the OSEP project officer.

Administrative Requirements

To be considered for funding under this priority, applicants must meet the application and administrative requirements in this priority. OSEP encourages innovative approaches to meet these requirements, which are:

(a) Demonstrate, in the narrative section of the application under “Significance of the Project,” how the proposed project will address States' capacity to: (1) Understand IDEA's statutory and regulatory basis for the fiscal reporting requirements; (2) collect valid and reliable fiscal data; (3) conduct required calculations consistent with IDEA requirements; and (4) report valid and reliable fiscal data; and

(b) Demonstrate knowledge of IDEA fiscal data collections, including the underlying statutory and regulatory requirements, current fiscal guidance, and State school funding systems;

(c) Demonstrate, in the narrative section of the application under “Quality of the Project Services,” how the proposed project will—

(1) Achieve its goals, objectives, and intended outcomes. To meet this requirement, the applicant must provide—

(i) Measurable intended project outcomes; and

(ii) The logic model by which the proposed project will achieve its intended outcomes;

(2) Use a conceptual framework to develop project plans and activities, describing any underlying concepts, assumptions, expectations, beliefs, or theories, as well as the presumed relationships or linkages among these variables, and any empirical support for this framework;

(3) Base the design of the TA on current research and make use of evidence-based practices. To meet this requirement, the applicant must describe—

(i) The current research about adult learning principles and implementation science that will inform the proposed TA; and

(ii) How the proposed project will incorporate current research and evidence-based practices in the development and delivery of its products and services;

(4) Develop products and provide services that are of high quality and sufficient intensity and duration to achieve the intended outcomes of the proposed project. To address this requirement, the applicant must describe—

(i) How it proposes to identify or develop the knowledge base for IDEA fiscal data collection and reporting requirements;

(ii) How it proposes to conduct the survey of all 60 IDEA Part B Programs administered by SEAs;

(iii) How it proposes to conduct universal, general TA ² for the 60 SEAs that have IDEA Part B programs;

² “Universal, general TA” means TA and information provided to independent users through their own initiative, resulting in minimal interaction with TA center staff and including one-time, invited or offered conference presentations by TA center staff. This category of TA also includes information or products, such as newsletters, guidebooks, or research syntheses, downloaded from the TA center's Web site by independent users. Brief communications by TA center staff with recipients, either by telephone or email, are also considered universal, general TA.

(iv) How it proposes to provide targeted, specialized TA,³ which must identify—

³ “Targeted, specialized TA” means TA service based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients of the products and services under this approach;

(B) How it proposes to measure the readiness of potential TA recipients to work with the project, assessing, at a minimum, their current infrastructure, available resources, and ability to build capacity at the LEA level; and

(C) Appropriate staff with the requisite responsibilities to receive the TA in these areas.

(v) How it proposes to provide intensive, sustained TA to the 10 or more selected SEAs,⁴ which must identify—

⁴ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) How it proposes to select and recruit SEAs to work with the proposed project, considering the SEAs' need for the initiative, current infrastructure, available resources, and ability to build capacity at the LEA level;

(B) How it proposes to assist SEAs in building training systems that include professional development based on adult learning principles and coaching; and

(C) How it proposes to involve and work with other regional TA providers to assist SEAs with communication between each level of the education system (e.g., districts, schools, families);

(5) Develop products and implement services to maximize the project's efficiency. To address this requirement, the applicant must describe—

(i) How the proposed project will use technology to achieve the intended project outcomes;

(ii) With whom the proposed project will collaborate and the intended outcomes of this collaboration; and

(iii) How the proposed project will use non-project resources to achieve the intended project outcomes.

(d) Demonstrate, in the narrative section of the application under “Quality of the Evaluation Plan,” how—

(1) The proposed project will collect and analyze data on specific and measurable goals, objectives, and intended outcomes of the project. To address this requirement, the applicant must describe its—

(i) Proposed evaluation methodologies, including instruments, data collection methods, and analyses; and

(ii) Proposed standards or targets for determining effectiveness;

(2) The proposed project will use the evaluation results to examine the effectiveness of its implementation and its progress toward achieving intended outcomes; and

(3) The proposed methods of evaluation will produce quantitative and qualitative data that demonstrate whether the project achieved the intended outcomes.

(e) Demonstrate, in the narrative section of the application under “Adequacy of Project Resources,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes, including experience working with State and district fiscal systems;

(3) The applicant and any key partners have adequate resources to carry out the proposed activities; and

(4) The proposed costs are reasonable in relation to the anticipated results and benefits.

(f) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated to the project and how these allocations are appropriate and adequate to achieve the project's intended outcomes;

(3) The proposed management plan will ensure that the products and services provided are of high quality; and

(4) The proposed project will obtain a diversity of perspectives, including those of State and local personnel, TA providers, researchers, and policy makers, among others, in the development and operation of its plan.

(g) Address the following application requirements:

(1) Include in Appendix A a logic model that depicts, at a minimum, the goals, activities, outputs, and outcomes of the proposed project. A logic model communicates how a project will achieve its intended outcomes and provides a framework for both the formative and summative evaluations of the project.

Note: The following Web sites provide more information on logic models: www.researchutilization.org/matrix/logicmodel_resource3c.html and www.tadnet.org/pages/589;

(2) Include in Appendix A a conceptual framework for the project;

(3) Include in Appendix A person-loading charts and timelines, as applicable, to illustrate the management plan described in the narrative;

(4) Include in the budget the costs for attending the following events:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative;

(ii) A two and one-half day project directors' meeting in Washington, DC, to occur every other year beginning with the meeting scheduled for Summer 2016;

(iii) A two-day trip annually for Department briefings, Department-sponsored conferences, and other meetings, as requested by OSEP; and

(iv) A one-day intensive review meeting in Washington, DC, during the last half of the second year of the project period;

(5) Include in the budget a line item for an annual set-aside of five percent of the grant amount to support emerging needs that are consistent with the proposed project's intended outcomes, as those needs are identified in consultation with OSEP;

Note: With approval from the OSEP project officer, the grantee must reallocate any remaining funds from this annual set-aside no later than the end of the third quarter of each budget period; and

(6) Maintain a Web site that meets government or industry-recognized standards for accessibility.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles set forth in the Executive order.

This final regulatory action is not a significant regulatory action subject to review by OMB under section 3(f) of Executive Order 12866.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this final priority only on a reasoned determination that its benefits justify its costs. In choosing among alternative regulatory approaches, we selected those approaches that maximize net benefits. Based on the analysis that follows, the Department believes that this regulatory action is consistent with the principles in Executive Order 13563.

We also have determined that this regulatory action does not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

An IDEA Fiscal Data Center funded under the priority established by this regulatory action will assist States in complying with Federal laws and regulations. Without this regulatory action, the burden of improving State capacity to collect, report, and analyze IDEA data will fall solely on the responsible State and local entities.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: August 6, 2014.
Michael K. Yudin,
Acting Assistant Secretary for Special Education and Rehabilitative Services.

[FR Doc. 2014-18968 Filed 8-8-14; 8:45 am]

BILLING CODE 4000-01-01